NUCLEAR REGULATORY COMMISSION

[Project No. 0769; NRC-2017-0043]

NuScale Power, LLC

AGENCY: Nuclear Regulatory Commission.

ACTION: License application; docketing.

SUMMARY: The U.S. Nuclear Regulatory Commission (NRC) has accepted for docketing an application for a design certification of a Small Modular Reactor (SMR) submitted by NuScale Power, LLC (NuScale).

DATES: March 15, 2017.

ADDRESSES: Please refer to Docket ID NRC-2017-0043 when contacting the NRC about the availability of information regarding this document. You may obtain publicly-available information related to this document using any of the following methods:

• Federal Rulemaking Web site: Go to http://www.regulations.gov and search for Docket ID NRC-2017-0043. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The entire NuScale application is available in ADAMS under Accession No. ML17013A229.

• NRC's PDR: You may examine and purchase copies of public documents at the NRC's PDR, Room O1-F21, One White Flint North, 11555 Rockville Pike, Rockville, Maryland 20852.

FOR FURTHER INFORMATION CONTACT: Bruce Bavol, Office of New Reactors, U.S. Nuclear Regulatory Commission, Washington, DC 20555-0001; telephone: 301-415-6715, email: Bruce.Bavol@nrc.gov.

SUPPLEMENTARY INFORMATION: By letter dated December 31, 2016, NuScale filed an application for a design certification of the NuScale SMR with the NRC, pursuant to Section 103 of the Atomic Energy Act of 1954, as amended, and part 52 of title 10 of the Code of Federal Regulations (10 CFR), “Licenses, Certifications, and Approvals for Nuclear Power Plants.” A notice of receipt and availability of this application was previously published in the Federal Register on February 22, 2017 (82 FR 11372).

The NRC staff has determined that NuScale has submitted information in accordance with 10 CFR part 2, “Rules of Practice for Domestic Licensing Proceedings and Issuance of Orders,” and 10 CFR part 52 that is acceptable for docketing. The docket number established for this application is 52-048.

The NRC staff will perform a detailed technical review of the design certification application. Docketing of the design certification application does not preclude the NRC from requesting additional information from the applicant as the review proceeds, nor does it predict whether the Commission will grant or deny the application. A notice relating to the rulemaking pursuant to 10 CFR 52.51 for design certification, including provisions for participation of the public and other parties, will be published in the future.

The NuScale SMR is a pressurized-water reactor (PWR). The design is based on the Multi-Application Small Light Water Reactor (MASLWR) developed at Oregon State University in the early 2000s. The NuScale SMR is a natural circulation light-water reactor with the reactor core and helical coil steam generator located in a common reactor vessel in a cylindrical steel containment. The NuScale power module is immersed in water in a safety-related pool. The reactor pool is located below grade and is designed to hold up to 12 power modules. Each NuScale SMR has a rated thermal output of 160 megawatts thermal (MWt) and electrical output of 50 megawatts electric (MWe). Each plant can hold up to 12 modules yielding a total capacity of 600 MWe.

Dated at Rockville, Maryland, this 20th day of March, 2017.
For the Nuclear Regulatory Commission.
Frank Akstulewicz,
Director, Division of New Reactor Licensing, Office of New Reactors.

[FR Doc. 2017-06309 Filed 3-29-17; 8:45 am]

BILLING CODE 7590-01-P